DEPARTMENT OF COMMERCE

Bureau of Industry and Security

15 CFR Part 744

[Docket No. 151209999-5999-01]

RIN 0694—AG81

Addition of Certain Persons and Modification of Certain Entries to the Entity List; and Removal of Certain Persons From the Entity List

AGENCY: Bureau of Industry and Security, Commerce.

ACTION: Final rule.

SUMMARY: This rule amends the Export Administration Regulations (EAR) by adding eight persons under eight entries to the Entity List. The eight persons who are added to the Entity List have been determined by the U.S. Government to be acting contrary to the national security or foreign policy interests of the United States. These eight persons will be listed on the Entity List under the destination of the United Arab Emirates (U.A.E.). This final rule also removes nine persons from the Entity List, as the result of a request for removal submitted by these persons, a review of information provided in the removal request in accordance with the procedure for requesting removal or modification of an Entity List entity and further review conducted by the End-User Review Committee (ERC). Finally, this rule is also revising six existing entries in the Entity List. One entry under Iran is modified to correct the entry by updating the Federal Register citation. Five entries on the Entity List under the destinations of Armenia, Greece, India, Pakistan and the United Kingdom (U.K.) are modified to reflect a removal from the Entity List.

DATES: This rule is effective February 23, 2016.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to Part 744) identifies entities and other persons reasonably believed to be involved in or to pose a significant risk of being or becoming involved in activities that are contrary to the national security or foreign policy interests of the United States. The EAR imposes additional license requirements on, and limits the availability of most license exceptions for exports, reexports, and transfers (in-country) to those persons or entities listed on the Entity List. The “license review policy” for each listed entity or other person is identified in the License Review Policy column on the Entity List and the impact on the availability of license exceptions is described in the Federal Register notice adding entities or other persons to the Entity List. BIS places entities and other persons on the Entity List pursuant to sections of part 744 (Control Policy: End-User and End-Use Based) and part 746 (Embargoes and Other Special Controls) of the EAR.

The ERC, composed of representatives of the Departments of Commerce (Chair), State, Defense, Energy and, where appropriate, the Treasury, makes all decisions regarding additions to, removals from, or other modifications to the Entity List. The ERC makes all decisions to add an entry to the Entry List by majority vote and all decisions to remove or modify an entry by unanimous vote.

ERC Entity List Decisions

Additions to the Entity List

This rule implements the decision of the ERC to add eight persons under eight entries to the Entity List. These eight persons are being added on the basis of § 744.11 (License requirements that apply to entities acting contrary to the national security or foreign policy interests of the United States) of the EAR. The eight entries added to the entity list are located in the U.A.E.

The ERC reviewed § 744.11(b) (Criteria for revising the Entity List) in making the determination to add these eight persons to the Entity List. Under that paragraph, persons and those acting on behalf of such persons may be added to the Entity List if there is reasonable cause to believe, based on specific and articulable facts, that they have been involved, are involved, or pose a significant risk of being or becoming involved in, activities that are contrary to the national security or foreign policy interests of the United States. Paragraphs (b)(1) through (b)(5) of § 744.11 include an illustrative list of activities that could be contrary to the national security or foreign policy interests of the United States. Pursuant to § 744.11 of the EAR, the ERC determined that the eight entities, located in the destination of the U.A.E., be added to the Entity List for actions contrary to the national security or foreign policy interests of the United States.

Specifically, the ERC determined that two entities located in the U.A.E., Euro Vision Technology LLC and Noun Nasreddine, should be be added to the Entity List on the basis of their attempts to procure U.S.-origin technology on behalf of designated persons, contrary to the national security and foreign policy interests of the United States. Specifically, these persons in the U.A.E. have been involved in supplying U.S.-origin items to persons designated by the Secretary of State as Foreign Terrorist Organizations (FTOs) and present a risk of supplying U.S.-origin items to embargoed destinations without the required authorizations. An additional two entities located in the U.A.E., Dow Technology and Hassan Dow, are also being added to the Entity List on the basis of their procurements of U.S.-origin technology on behalf of persons that have been involved in supplying U.S.-origin items to persons designated by the Secretary of State as FTOs.

Pursuant to § 744.11 of the EAR, the ERC determined that the conduct of these four persons raises sufficient concern that prior review of exports, reexports or transfers (in-country) of items subject to the EAR involving these persons, and the possible imposition of license conditions or license denials on shipments to the persons, will enhance BIS's ability to prevent violations of the EAR.

In addition, the ERC has determined that for four other entities located in the U.A.E., FWS Trading FZE, Rainbow General Trading Company, Hamed Kianynejad and Mojtaba Alikhani, there is reasonable cause to believe, based on specific and articulable facts, that they prevented the successful accomplishment of end-use checks by BIS officials. Prevention of an end-use check is one of the criteria for addition to the Entity List in the illustrative list of activities contrary to U.S. national security and foreign policy found in § 744.11 of the EAR.

Pursuant to § 744.11 (b)(4) of the EAR, the ERC determined that the conduct of these four persons (FWS Trading, Rainbow General, Kianynejad and Alikhani) raises sufficient concern that prior review of exports, reexports or transfers (in-country) of items subject to the EAR involving these persons, and the possible imposition of license conditions or license denials on shipments to the persons, will enhance BIS's ability to prevent violations of the EAR.

For the eight persons added to the Entity List, BIS imposes a license requirement for all items subject to the EAR and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule. The acronym “a.k.a.” (also known as) is used in entries on the Entity List to help exporters, reexporters and transferors better identify listed persons on the Entity List.

This final rule adds the following eight persons under eight entries to the Entity List:

United Arab Emirates

(1) Dow Technology,

W-38 Musalla Tower, Dubai, U.A.E.; and P.O. Box 5780, Dubai, U.A.E.;

(2) Euro Vision Technology LLC,

#701 Damas Tower, 702 Al Maktoum St, Dubai, U.A.E.; and 701 Attar Tower, Maktoum St, Dubai, U.A.E.; and City Tower, Al Maktoum St. Office No. 701, Dubai U.A.E.; and P.O. Box 40595, Dubai, U.A.E.; and Warehouse No. 8, Plot No. 238, Rashidiya, Dubai, U.A.E.;

(3) FWS Trading FZE,

Rainbow No. 1212, Ajman Free Zone, Ajman, U.A.E.; and City Tower 2, Office #2004, Dubai, U.A.E.;

(4) Hamed Kianynejad,

Rainbow No. 1212, Ajman Free Zone, Ajman, U.A.E.; and City Tower 2, Office #2004, Dubai, U.A.E.; and City Tower 2, 20th Floor, Office #2005, Sheikh Zayed Road, Dubai, U.A.E.;

(5) Hassan Dow,

W-38 Musalla Tower, Dubai, U.A.E.; and P.O. Box 5780, Dubai, U.A.E.;

(6) Mojtaba Alikhani,

Rainbow No. 1212, Ajman Free Zone, Ajman, U.A.E.; and City Tower 2, Office #2004, Dubai, U.A.E.;

(7) Noun Nasreddine, a.k.a., the following one alias:

—N.A. Nasreddine.

#701 Damas Tower, 702 Al Maktoum St, Dubai, U.A.E.; and 701 Attar Tower, Maktoum St, Dubai, U.A.E.; and City Tower, Al Maktoum St. Office No. 701, Dubai U.A.E.; and P.O. Box 40595, Dubai, U.A.E.; and Warehouse No. 8, Plot No. 238, Rashidiya, Dubai, U.A.E.; and

(8) Rainbow General Trading Company,

City Tower 2, 20th Floor, Office #2005, Sheikh Zayed Road, Dubai, U.A.E.

Removals From the Entity List

This rule implements a decision of the ERC to remove the following nine persons from the Entity List based on a removal request submitted by Indira, Jaideep and Nitin Mirchandani and their six companies: Agneet Sky Limited, located in Ireland; and Aeolus FZE, Aerospace Company FZE, Aircon Beibars FZE, Group Sky One, and Veteran Avia LLC, all located in the U.A.E. These entities were added to the Entity List on September 28, 2014 (79 FR 55999) pursuant to § 744.11 (b)(5) of the EAR. Jaideep Mirchandani and his family members, Indira Mirchandani and Nitin Mirchandani, and the entities owned, operated or controlled by them, were found to be involved in activities supporting the Syrian regime and attempting to export a U.S.-origin aircraft to Syria that would be used to further support the Syrian regime. The ERC's decision to remove these nine persons from the Entity List was based on information provided by the entities in their appeal request pursuant to § 744.16 (Procedure for requesting removal or modification of an Entity List entity) and further review conducted by the ERC.

In accordance with § 744.16(c), the Deputy Assistant Secretary for Export Administration has sent written notification informing these persons of the ERC's decision.

This final rule implements the decision to remove the following nine entities located in Ireland and the U.A.E. from the Entity List.

Ireland

(1) Agneet Sky Limited,

12, Fitzwilliam Place Dublin, 2 Ireland.

United Arab Emirates

(1) Aeolus FZE, a.k.a., the following one alias:

—Aeolus Air Group.

Sharjah Airport Saif Zone, P.O. Box 120435 Sharjah, U.A.E.;

(2) Aerospace Company FZE, a.k.a., the following one alias:

—Aerospace Consortium.

18, Fujairah Free Zone, P.O. Box 1729, Fujairah, U.A.E.; and Fujairah Free Zone, P.O. Box 7168, Fujairah, U.A.E.;

(3) Aircon Beibars FZE,

Plot of Land L4—03, 04, 05, 06, P.O. Box 121095, Sharjah, U.A.E.;

(4) Indira Mirchandani,

Town House 1033 Uptown Mirdif, Mirdif, Algeria Street, Dubai, U.A.E.;

(5) Jaideep Mirchandani, a.k.a., the following one alias:

—Jaidip Mirchandani.

Villa No. W10 Emirates Hills, Dubai, U.A.E.;

(6) Nitin Mirchandani, a.k.a., the following one alias:

—Nithin Merchandani.

H2601 Executive Towers, Business Bay, Dubai, U.A.E.;

(7) Group Sky One, a.k.a., the following one alias:

—Sky One FZE.

Q4 76, Sharjah Airport Free Zone, Sharjah, U.A.E., and Executive Desk, Q1-05, 030/C, P.O. Box 122849, Sharjah, U.A.E.; and

(8) Veteran Avia LLC, a.k.a., the following one alias:

—Veteran Airline.

Sharjah SAIF Zone, Sharjah, U.A.E.; and Y2-307, Saif Zone, Sharjah International Airport, P.O. Box 122598, Sharjah, U.A.E. (See also addresses under Armenia, Greece, India, Pakistan, and U.K., which have been revised to reflect this removal).

The removal of the nine persons referenced above, which was approved by the ERC, eliminates the existing license requirements in Supplement No. 4 to part 744 for exports, reexports and transfers (in-country) to these entities. However, the removal of these nine persons from the Entity List does not relieve persons of other obligations under part 744 of the EAR or under other parts of the EAR. Neither the removal of an entity from the Entity List nor the removal of Entity List-based license requirements relieves persons of their obligations under General Prohibition 5 in § 736.2(b)(5) of the EAR which provides that, “you may not, without a license, knowingly export or reexport any item subject to the EAR to an end-user or end-use that is prohibited by part 744 of the EAR.” Additionally, these removals do not relieve persons of their obligation to apply for export, reexport or in-country transfer licenses required by other provisions of the EAR. BIS strongly urges the use of Supplement No. 3 to part 732 of the EAR, “BIS's `Know Your Customer' Guidance and Red Flags,” when persons are involved in transactions that are subject to the EAR.

Corrections and Conforming Changes to the Entity List

This final rule implements corrections and conforming changes for six existing entries on the Entity List. Under the destination of Iran, the entry for Simin Neda Industrial and Electrical Parts is amended by correcting the Federal Register citation. Under the destinations of Armenia, Greece, India, Pakistan and the United Kingdom, the five entries for the entity Veteran Avia LLC, a.k.a., Veteran Airline, are amended to reflect the removal of the Veteran Avia LLC entity located in the U.A.E.

Correction for Federal Register citation. The original citation for the final rule that added Simin Neda Industrial and Electrical Parts to the Entity list was erroneously listed as 72 FR 38008, 7/12/07 in the following rule: Addition of Certain Persons to the Entity List; and Implementation of Entity List Annual Review Changes, April 25, 2012 (72 FR 24590). Simin Neda Industrial and Electrical Parts was added to the Entity List in the following rule: Addition of Certain Persons to the Entity List; Removal of General Order From the Export Administration Regulations (EAR), September 22, 2008 (73 FR 54507). This final rule corrects the original Federal Register citiation for this entity to correctly reference the Federal Register citation for the September 22, 2008 final rule. This final rule does not make any other changes to this Iranian entity. The entity name remains the same, the license requirement remains for all items subject to the EAR, and the license application review policy remains a presumption of denial.

Conforming changes for an approved removal. This final rule revises five entries in the in the Entity List for the entity Veteran Avia LLC to remove all references to the U.A.E. location of Veteran Avia LLC. As described above, the U.A.E. location of Veteran LLC was approved for removal from the Entity List. Therefore, this final rule makes conforming changes to the remaining five entries for the entity Veteran Avia LLC to remove the cross reference to the U.A.E. This final rule does not make any other changes to these five entries. The license requirement remains for all items subject to the EAR, and the license application review policy remains a presumption of denial.

This final rule makes the following revisions to six entries on the Entity List:

Armenia

(1) Veteran Avia LLC, a.k.a., the following one alias:

—Veteran Airline.

64, Baghramyam Avenue, Apt 16, Yerevan 0033, Armenia; and 1 Eervand Kochari Street Room 1, 375070 Yerevan, Armenia (See also addresses under Greece, India, Pakistan, and U.K.).

Greece

(1) Veteran Avia LLC, a.k.a., the following one alias:

—Veteran Airline.

24, A. Koumbi Street, Markopoulo 190 03, Attika, Greece (See also addresses under Armenia, India, Pakistan, and U.K.).

India

(1) Veteran Avia LLC, a.k.a., the following one alias:

—Veteran Airline.

A-107, Lajpat Nagar—I New Delhi 110024, India; and Room No. 34 Import Cargo, IGI Aiport Terminal—II, New Delhi 110037, India; and 25B, Camac Street 3E, Camac Court Kolkatta, 700016, India; and Ali's Chamber #202, 2nd Floor Sahar Cargo Complex Andheri East Mumbai, 400099, India (See also addresses under Armenia, Greece, Pakistan, and U.K.).

Iran

(1) Simin Neda Industrial and Electrical Parts, a.k.a., the following alias:

—TTSN.

No. 22, Second Floor, Amjad Bldg., Jomhoori Ave., Tehran, Iran.

Pakistan

(1) Veteran Avia LLC, a.k.a., the following one alias:

—Veteran Airline.

Room No. 1, ALC Building, PIA Cargo Complex Jiap, Karachi, Pakistan (See also addresses under Armenia, Greece, India, and U.K.).

United Kingdom

(1) Veteran Avia LLC, a.k.a., the following one alias:

—Veteran Airline.

1 Beckett Place, South Hamptonshire, London, U.K. (See also addresses under Armenia, Greece, India, and Pakistan).

Savings Clause

Shipments of items removed from eligibility for a License Exception or export or reexport without a license (NLR) as a result of this regulatory action that were en route aboard a carrier to a port of export or reexport, on February 23, 2016 pursuant to actual orders for export or reexport to a foreign destination, may proceed to that destination under the previous eligibility for a License Exception or export or reexport without a license (NLR).

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 7, 2015, 80 FR 48233 (August 11, 2015), has continued the Export Administration Regulations in effect under the International Emergency Economic Powers Act. BIS continues to carry out the provisions of the Export Administration Act, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. For the eight persons added to the Entity List in this final rule, the provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, the entities being added to the Entity List by this action would continue to be able to receive items without a license and to conduct activities contrary to the national security or foreign policy interests of the United States. In addition, publishing a proposed rule would give these parties notice of the U.S. Government's intention to place them on the Entity List and would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

5. For the nine removals from the Entity List in this final rule, pursuant to the Administrative Procedure Act (APA), 5 U.S.C. 553(b)(B), BIS finds good cause to waive requirements that this rule be subject to notice and the opportunity for public comment because it would be contrary to the public interest.

In determining whether to grant removal requests from the Entity List, a committee of U.S. Government agencies (the End-User Review Committee (ERC)) evaluates information about and commitments made by listed persons requesting removal from the Entity List, the nature and terms of which are set forth in 15 CFR part 744, Supplement No. 5, as noted in 15 CFR 744.16(b). The information, commitments, and criteria for this extensive review were all established through the notice of proposed rulemaking and public comment process (72 FR 31005 (June 5, 2007) (proposed rule), and 73 FR 49311 (August 21, 2008) (final rule)). These nine removals have been made within the established regulatory framework of the Entity List. If the rule were to be delayed to allow for public comment, U.S. exporters may face unnecessary economic losses as they turn away potential sales because the customer remained a listed person on the Entity List even after the ERC approved the removal pursuant to the rule published at 73 FR 49311 on August 21, 2008. By publishing without prior notice and comment, BIS allows the applicant to receive U.S. exports immediately because the applicant already has received approval by the ERC pursuant to 15 CFR part 744, Supplement No. 5, as noted in 15 CFR 744.16(b).

The removals from the Entity List granted by the ERC involve interagency deliberation and result from review of public and non-public sources, including sensitive law enforcement information and classified information, and the measurement of such information against the Entity List removal criteria. This information is extensively reviewed according to the criteria for evaluating removal requests from the Entity List, as set out in 15 CFR part 744, Supplement No. 5 and 15 CFR 744.16(b). For reasons of national security, BIS is not at liberty to provide to the public detailed information on which the ERC relied to make the decisions to remove these nine entities. In addition, the information included in the removal request is information exchanged between the applicant and the ERC, which by law (section 12(c) of the Export Administration Act), BIS is restricted from sharing with the public. Moreover, removal requests from the Entity List contain confidential business information, which is necessary for the extensive review conducted by the U.S. Government in assessing such removal requests.

Section 553(d) of the APA generally provides that rules may not take effect earlier than thirty (30) days after they are published in the Federal Register. BIS finds good cause to waive the 30-day delay in effectiveness under 5 U.S.C. 553(d)(1) because this rule is a substantive rule which relieves a restriction. This rule's removal of nine persons from the Entity List removes a requirement (the Entity-List-based license requirement and limitation on use of license exceptions) on these nine persons being removed from the Entity List. The rule does not impose a requirement on any other person for these nine removals from the Entity List.

In addition, the Department finds that there is good cause under 5 U.S.C. 553(b)(B) to waive the provisions of the Administrative Procedure Act (APA) requiring prior notice and the opportunity for public comment for the six corrections and conforming changes included in this rule because they are either unnecessary or contrary to the public interest. The following six corrections and conforming changes are non-substantive or are limited to ensure consistency with a past rulemaking, and thus prior notice and the opportunity for public comment is unnecessary. One correction is limited to correcting the Federal Register citation to ensure consistency with a past rulemaking. The other five conforming changes are limited to making a conforming change to reflect the removal of the Veteran Avia LLC entity located in the U.A.E. These five conforming changes are needed to correct the cross reference parenthetical phrase included in each of these five entries.

No other law requires that a notice of proposed rulemaking and an opportunity for public comment be given for this final rule. Because a notice of proposed rulemaking and an opportunity for public comment are not required under the APA or by any other law, the analytical requirements of the Regulatory Flexibility Act (5 U.S.C. 601 et seq.) are not applicable. As a result, no final regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of January 21, 2015, 80 FR 3461 (January 22, 2015); Notice of August 7, 2015, 80 FR 48233 (August 11, 2015); Notice of September 18, 2015, 80 FR 57281 (September 22, 2015); Notice of November 12, 2015, 80 FR 70667, November 13, 2015.

2. Supplement No. 4 to part 744 is amended:

a. By revising under Armenia, one Armenian entity, “Veteran Avia LLC, a.k.a., the following one alias:

—Veteran Airline. 64, Baghramyam Avenue, Apt 16, Yerevan 0033, Armenia; and 1 Eervand Kochari Street Room 1, 375070 Yerevan, Armenia (See also addresses under Greece, India, Pakistan, and U.K.)”;

b. By revising, under Greece, one Greek entity, “Veteran Avia LLC, a.k.a., the following one alias:

—Veteran Airline. 24, A. Koumbi Street, Markopoulo 190 03, Attika, Greece (See also addresses under Armenia, India, Pakistan, and U.K.)”;

c. By revising, under India, one Indian entity, “Veteran Avia LLC, a.k.a., the following one alias:

—Veteran Airline. A-107, Lajpat Nagar—I New Delhi 110024, India; and Room No. 34 Import Cargo, IGI Aiport Terminal—II, New Delhi 110037, India; and 25B, Camac Street 3E, Camac Court Kolkatta, 700016, India; and Ali's Chamber #202, 2nd Floor Sahar Cargo Complex Andheri East Mumbai, 400099, India (See also addresses under Armenia, Greece, Pakistan, and U.K.)”;

d. By revising under Iran, the Iranian entity “Simin Neda Industrial and Electrical Parts, a.k.a., the following alias:

—TTSN. No. 22, Second Floor, Amjad Bldg., Jomhoori Ave., Tehran, Iran.”;

e. By removing, under Ireland, one Irish entity, “Agneet Sky Limited, 12, Fitzwilliam Place Dublin, 2 Ireland.”;

f. By revising, under Pakistan, one Pakistani entity, “Veteran Avia LLC, a.k.a., the following one alias:

—Veteran Airline. Room No. 1, ALC Building, PIA Cargo Complex Jiap, Karachi, Pakistan (See also addresses under Armenia, Greece, India, U.A.E., and U.K.)”;

g. By adding under the United Arab Emirates, in alphabetical order, eight Emirati entities;

h. By removing under the United Arab Emirates, eight Emirati entities, “Aeolus FZE, a.k.a., the following one alias:

—Aeolus Air Group. Sharjah Airport Saif Zone, P.O. Box 120435 Sharjah, U.A.E.”;

“Aerospace Company FZE, a.k.a., the following one alias:

—Aerospace Consortium. 18, Fujairah Free Zone, P.O. Box 1729, Fujairah, U.A.E.; and Fujairah Free Zone, P.O. Box 7168, Fujairah, U.A.E.”;

“Aircon Beibars FZE, Plot of Land L4—03, 04, 05, 06, P.O. Box 121095, Sharjah, U.A.E.”; “Indira Mirchandani, Town House 1033 Uptown Mirdif, Mirdif, Algeria Street, Dubai, U.A.E.”; “Jaideep Mirchandani, a.k.a., the following one alias:

—Jaidip Mirchandani. Villa No. W10 Emirates Hills, Dubai, U.A.E.”;

“Nitin Mirchandani, a.k.a., the following one alias:

—Nithin Merchandani. H2601 Executive Towers, Business Bay, Dubai, U.A.E.”;

“Group Sky One, a.k.a., the following one alias:

—Sky One FZE. Q4 76, Sharjah Airport Free Zone, Sharjah, U.A.E., and Executive Desk, Q1-05, 030/C, P.O. Box 122849, Sharjah, U.A.E.”; and

“Veteran Avia LLC, a.k.a., the following one alias:

—Veteran Airline. Sharjah SAIF Zone, Sharjah, U.A.E.; and Y2-307, Saif Zone, Sharjah International Airport, P.O. Box 122598, Sharjah, U.A.E. (See also addresses under Armenia, Greece, India, Pakistan, and U.K.); and

i. By revising, under the United Kingdom, one British entity, “Veteran Avia LLC, a.k.a., the following one alias:

—Veteran Airline. 1 Beckett Place, South Hamptonshire, London, U.K. (See also addresses under Armenia, Greece, India, and Pakistan).”

The additions and revisions read as follows:

Supplement No. 4 to Part 744—Entity List
Country | Entity | License requirement | License review policy | Federal Register citation
* * * * * * *
ARMENIA | * * * * * *
| Veteran Avia LLC a.k.a., the following alias: —Veteran Airline. | For all items subject to the EAR. (See § 744.11 of the EAR). | Presumption of denial | 79 FR 56003, 9/18/14. 81 FR [INSERT FR PAGE NUMBER], 2/23/16.
| 64, Baghramyam Avenue, Apt 16, Yerevan 0033, Armenia; and 1 Eervand Kochari Street Room 1, 375070 Yerevan, Armenia (See also addresses under Greece, India, Pakistan, and U.K.)
* * * * * * *
GREECE | * * * * * *
| Veteran Avia LLC a.k.a., the following alias: —Veteran Airline. | For all items subject to the EAR. (See § 744.11 of the EAR). | Presumption of denial | 79 FR 56003, 9/18/14. 81 FR [INSERT FR PAGE NUMBER, 2/23/16.
| 24, A. Koumbi Street, Markopoulo 190 03, Attika, Greece (See also addresses under Armenia, India, Pakistan, and U.K.)
* * * * * * *
INDIA | * * * * * *
| Veteran Avia LLC a.k.a., the following alias: —Veteran Airline. | For all items subject to the EAR. (See § 744.11 of the EAR). | Presumption of denial | 79 FR 56003, 9/18/14. 81 FR [INSERT FR PAGE NUMBER], 2/23/16.
| A-107, Lajpat Nagar—I New Delhi 110024, India; and Room No. 34 Import Cargo, IGI Airport Terminal—II, New Delhi 110037, India; and 25B, Camac Street 3E, Camac Court
| Kolkatta, 700016, India; and Ali's Chamber #202, 2nd Floor Sahar Cargo Complex Andheri East Mumbai, 400099, India (See also addresses under Armenia, Greece, Pakistan, and U.K.)
IRAN | * * * * * *
| Simin Neda Industrial and Electrical Parts, a.k.a., the following alias: —TTSN | For all items subject to the EAR. (See § 744.11 of the EAR). | Presumption of denial | 73 FR 54507, 9/22/08. 77 FR 24590, 4/25/12.
| No. 22, Second Floor, Amjad Bldg., Jomhoori Ave., Tehran, Iran
| * * * * * *
* * * * * * *
PAKISTAN | * * * * * *
| Veteran Avia LLC, a.k.a., the following one alias: —Veteran Airline | For all items subject to the EAR. (See § 744.11 of the EAR) | Presumption of denial | 79 FR 56003, 9/18/14. 81 FR [INSERT FR PAGE NUMBER], 2/23/16.
| Room No. 1, ALC Building, PIA Cargo Complex Jiap, Karachi, Pakistan (See also addresses under Armenia, Greece, India, and U.K.)
| * * * * * *
* * * * * * *
UNITED ARAB | * * * * * *
EMIRATES | Dow Technology, W-38 Musalla Tower, Dubai, U.A.E.; and P.O. Box 5780, Dubai, U.A.E. | For all items subject to the EAR. (See § 744.11 of the EAR) | Presumption of denial | 81 FR [INSERT FR PAGE NUMBER], 2/23/16.
| * * * * * *
| Euro Vision Technology LLC, #701 Damas Tower, 702 Al Maktoum St., Dubai, U.A.E.; and 701 Attar Tower, Maktoum St. Dubai, U.A.E.; and City Tower, Al Maktoum St., Office No. 701, Dubai U.A.E.; and P.O. Box 40595, Dubai, U.A.E.; and Warehouse No. 8, Plot No. 238, Rashidiya, Dubai, U.A.E. | For all items subject to the EAR. (See § 744.11 of the EAR) | Presumption of denial | 81 FR [INSERT FR PAGE NUMBER], 2/23/16.
| * * * * * *
| FWS Trading FZE, Rainbow No. 1212, Ajman Free Zone, Ajman, U.A.E.; and City Tower 2, Office #2004, Dubai, U.A.E. | For all items subject to the EAR. (See § 744.11 of the EAR) | Presumption of denial | 81 FR [INSERT FR PAGE NUMBER], 2/23/16.
| * * * * * *
| Hamed Kianynejad, Rainbow No. 1212, Ajman Free Zone, Ajman, U.A.E.; City Tower 2, Office #2004, Dubai, U.A.E.; and City Tower 2, 20th Floor, Office #2005, Sheikh Zayed Road, Dubai, U.A.E. | For all items subject to the EAR. (See § 744.11 of the EAR) | Presumption of denial | 81 FR [INSERT FR PAGE NUMBER], 2/23/16.
| * * * * * *
| Hassan Dow, W-38 Musalla Tower, Dubai, U.A.E.; and P.O. Box 5780, Dubai, U.A.E. | For all items subject to the EAR. (See § 744.11 of the EAR) | Presumption of denial | 81 FR [INSERT FR PAGE NUMBER], 2/23/16.
| * * * * * *
| Mojtaba Alikhani, Rainbow No. 1212, Ajman Free Zone, Ajman, U.A.E.; and City Tower 2, Office #2004, Dubai, U.A.E. | For all items subject to the EAR. (See § 744.11 of the EAR) | Presumption of denial | 81 FR [INSERT FR PAGE NUMBER], 2/23/16.
| * * * * * *
| Noun Nasreddine, a.k.a., the following one alias: —N.A. Nasreddine. | For all items subject to the EAR. (See § 744.11 of the EAR) | Presumption of denial | 81 FR [INSERT FR PAGE NUMBER], 2/23/16.
| #701 Damas Tower, 702 Al Maktoum St., Dubai, U.A.E.; and 701 Attar Tower, Maktoum St. Dubai, U.A.E.; and City Tower, Al Maktoum St., Office No. 701, Dubai U.A.E.; and P.O. Box 40595, Dubai, U.A.E.; and Warehouse No. 8, Plot No. 238, Rashidiya, Dubai, U.A.E.
| * * * * * *
| Rainbow General Trading Company, City Tower 2, 20th Floor, Office #2005, Sheikh Zayed Road, Dubai, U.A.E. | For all items subject to the EAR. (See § 744.11 of the EAR) | Presumption of denial | 81 FR [INSERT FR PAGE NUMBER], 2/23/16.
| * * * * * *
UNITED KINGDOM | * * * * * *
| Veteran Avia LLC a.k.a., the following alias: —Veteran Airline | For all items subject to the EAR. (See § 744.11 of the EAR) | Presumption of denial | 79 FR 56003, 9/18/14. 81 FR [INSERT FR PAGE NUMBER], 2/23/16.
| 1 Beckett Place, South Hamptonshire, London, U.K. (See also addresses under Armenia, Greece, India, and Pakistan).
| * * * * * *

Dated: February 16, 2016.
Kevin J. Wolf,
Assistant Secretary for Export Administration.

[FR Doc. 2016-03745 Filed 2-22-16; 8:45 am]

BILLING CODE 3510-33-P